DEPARTMENT OF COMMERCE

National Oceanic and Atmospheric Administration

[I.D. 072503C]

Gulf of Mexico Fishery Management Council; Public Hearings

AGENCY: National Marine Fisheries Service (NMFS), National Oceanic and Atmospheric Administration (NOAA), Commerce.

ACTION: Notice of public sscoping meetings for an environmental assessment (EA) and workshops on individual fishing quotas (IFQ); request for comments.

SUMMARY: NMFS announces public scoping meetings to determine issues for an EA for possible new management measures for vermillion snapper under the Fishery Management Plan for the Reef Fish Resources of the Gulf of Mexico (FMP) in accordance with the National Environmental Policy Act (NEPA) of 1969. The Gulf of Mexico Fishery Management Council (Council) will convene these scoping meetings to solicit public ideas to reduce overfishing in the Gulf of Mexico vermilion snapper fishery. Immediately following each scoping meeting on vermilion snapper, the Council will hold a workshop on individual fishing quota (IFQ) systems to acquaint the public with IFQ systems prior to a fall referendum on an IFQ system for the Gulf red snapper fishery.

DATES: The meetings and workshops will be held in August. See SUPPLEMENTARY INFORMATION for specific dates and times. Public comments on the scoping document for vermilion snapper should be received in the Council office by 5 p.m., eastern daylight time, September 5, 2003, to ensure consideration by the Council.

ADDRESSES: Written comments on and requests for the scoping document on vermilion snapper should be addressed to the Council at the following address: Gulf of Mexico Fishery Management Council, 3018 U.S. Highway 301, North, Suite 1000, Tampa, FL 33619; telephone: (813) 228-2815.

FOR FURTHER INFORMATION CONTACT: Mr. Wayne Swingle, Executive Director, Gulf of Mexico Fishery Management Council; telephone: (813) 228-2815.

SUPPLEMENTARY INFORMATION: NMFS announces public scoping meetings to solicit public and interested agencies input on the nature and extent of issues and impacts to be addressed in the EA and the methods by which they will be evaluated. The Council will hold these scoping meetings to solicit public ideas to reduce overfishing in the Gulf of Mexico vermilion snapper fishery. Copies of the scoping document will be available at the meetings and are available prior to the meetings from the Council office (see ADDRESSES).

Vermilion and red snapper in the Gulf of Mexico are managed under the FMP. The results of several scientific analyses indicate that the vermilion snapper resource is undergoing overfishing and that, therefore, the fishing mortality rate (F) on the stock may need to be reduced up to 30-50 percent. Some possible management actions to reduce F include bag limits for the recreational fishery, trip limits for the commercial fishery, and size limits for both fisheries. In addition, specific values (or a range of values) for maximum sustainable yield (MSY), optimum yield (OY), the minimum stock size threshold (MSST) (below which a stock is considered to be overfished), and the maximum fishing mortality threshold (MFMT) (above which a stock is considered to be undergoing overfishing) need to be determined for vermilion snapper.

Immediately following each scoping meeting on vermilion snapper, the Council will hold a workshop on IFQ systems to acquaint the public with the provisions of IFQ systems in other areas of the country. Copies of the workshop PowerPoint presentation will be available at each workshop. NMFS intends to hold a referendum in late September through November for eligible commercial red snapper fishers to determine whether they support an IFQ system for their fishery. The purpose of the workshops is to inform these fishers on how current IFQ systems work and to answer their questions before they vote in the referendum.

Scoping Meetings and Workshops

The vermilion snapper scoping meetings followed immediately by the IFQ workshops will be held at the following locations and dates from 7 p.m. until 10 p.m. (or earlier if the meetings and workshops are concluded).

1. Monday, August 18, 2003, Hilton Beachfront Garden Inn, 23092 Perdido Beach Boulevard, Orange Beach, AL 36561; telephone 251-974-1600;

2. Tuesday, August 19, 2003, National Marine Fisheries Service, 3500 Delwood Beach Road, Panama City, FL 32408; telephone 850-234-6541;

3. Wednesday, August 20, 2003, Tampa Airport Hilton, 2225 Lois Avenue, Tampa, FL 33607; telephone 813-877-6688;

4. Monday, August 25, 2003, Port Aransas Community Center, 408 North Allister, Port Aransas, TX 78373; telephone 361-749-4111;

5. Tuesday, August 26, 2003, San Luis Resort, 5222 Seawall Boulevard, Galveston Island, TX 77551; telephone 409-744-1500;

6. Wednesday, August 27, 2003, New Orleans Airport Hilton, 901 Airline Drive, Kenner, LA 70062; telephone 504-469-5000; and

7. Thursday, August 28, 2003, Palace Casino Resort, 158 Howard Avenue, Biloxi, MS 39530; telephone 800-725-2239.

Public comments on the scoping document for vermilion snapper will be considered by the Council if received in the Council office by 5 p.m., eastern daylight time, September 5, 2003.

These meetings are physically accessible to people with disabilities. Requests for sign language interpretation or other auxiliary aids should be directed to Anne Alford at the Council (see ADDRESSES) by August 11, 2003.

Dated: August 4, 2003.
Bruce Morehead,
Acting Director, Office of Sustainable Fisheries, National Marine Fisheries Service.

[FR Doc. 03-20288 Filed 8-7-03; 8:45 am]

BILLING CODE 3510-22-S